ENVIRONMENTAL PROTECTION AGENCY

40 CFR Part 228

[FRL-7572-2]

Ocean Disposal; Proposed Rule; Proposed Designation of Dredged Material Disposal Sites in the Central and Western Portions of Long Island Sound, CT; Extension of Comment Period and Addition of One Public Hearing; Correction

AGENCY: Environmental Protection Agency (EPA).

ACTION: Proposed rule; extension of comment period; correction.

SUMMARY: In response to public request, EPA is extending the comment period for its proposed action to designate dredged material disposal sites in the Central and Western Long Island Sound, Connecticut. EPA is extending the comment period by an additional 21 days, announcing the addition of a public hearing and correcting site location information in the proposed rulemaking published on September 12, 2003 (68 FR 53687-53696).

DATES: Comments must be received by 5 p.m. on or before November 17, 2003. Public comments on this document are requested and will be considered before taking final action on this designation.

ADDRESSES: Comments may be mailed to Ms. Ann Rodney, Office of Ecosystem Protection, U.S. Environmental Protection Agency, EPA—New England, One Congress Street, Suite 1100 (CWQ), Boston, MA 02114-2023 or electronically to Rodney.Ann@epa.gov.

FOR FURTHER INFORMATION CONTACT: Ms. Ann Rodney, (617) 918-1538 or e-mail Rodney.Ann@epa.gov.

SUPPLEMENTARY INFORMATION: EPA is extending the public comment period for the Draft Environmental Impact Statement for the proposed designation of dredged material disposal sites in the Central and Western Long Island Sound, Connecticut, and announcing the addition of a public hearing.

Corrections

The September 12, 2003 document (68 FR 53687-53696), is corrected on page 53688, 53689, 53690 and 53695 as follows:

1. On page 53688 in the preamble, first column, following the caption DATES:, the language is corrected to read: “ Comments must be received by 5 p.m. on or before November 17, 2003. The additional public hearing date is November 13, 2003 from 4p.m.-8p.m.”. On page 53689 the language is corrected to read as follows: “Comments must be received by 5 p.m. on or before November 17, 2003.”.

2. On page 53688, in the preamble, first column, following the caption ADDRESSES:, Public Hearing Locations section, the language is corrected to read: “The Public Hearing locations are: 1. September 30, 2003—New York at SUNY, Stony Brook, NY 11794-1603—Charles B. Wang Asian-American Center 2. October 1, 2003 and November 13, 2003—Westin Stamford, One First Stamford Place, Stamford, CT 06902.”.

3. On page 53688, in the preamble, first column, following the caption SUPPLEMENTARY INFORMATION:, the language is corrected to include the addition of libraries and is corrected to read: “Public Review of Documents: The file supporting this proposed designation is available for inspection at the following locations: In person. The Proposed Rule and the Draft Environmental Impact Statement (DEIS) which includes the Site Management and Monitoring Plans (Appendix J), are available for inspection at the following locations: A. EPA New England Library, 11th Floor, One Congress Street, Suite 1100 (CWQ), Boston, MA 02114-2023. For access to the documents, call Peg Nelson at (617) 918-1991 between 10 a.m. and 3 p.m. Monday through Thursday, excluding legal holidays, for an appointment. B. Mamaroneck Public Library Inc., 136 Prospect Ave., Mamaroneck, NY. C. Port Jefferson Free Library, 100 Thompson Street, Port Jefferson, NY. D. E. Bridgeport Public Library, 925 Broad Street, Bridgeport, CT. E. Milford City Library, 57 New Haven Ave., Milford, CT. F. New Haven Free Public Library, 133 Elm Street, New Haven, CT. G. New London Public Library, 63 Huntington Street, New London, CT. H. Norwalk Public Library, 1 Belden Ave., Norwalk, CT. I. Acton Public Library, 60 Old Boston Post Road, Old Saybrook, CT. J. Ferguson Library, 752 High Ridge Road, Stamford, CT. K. Boston Public Library, 700 Boylston Street, Copley Square, Boston, MA . L. New York State Library, Cultural Education Center, 6th Floor, Empire State Center, Albany, NY. M. Information Service Division, CT State Library, 231 Capital Ave., Hartford, CT. Electronically. You also may review and/or obtain electronic copies of these documents and various support documents from the EPA home page at the Federal Register, http://www.epa.gov/fedrgstr/, or on the EPA New England Region's home page at http://www.epa.gov/region1/eco/lisdreg/.”

4. On page 53690, Section D. Site Descriptions, second column is corrected to read as follows: CLIS 41°9.5′ N., 72°54.4′ W.; 41°9.5′ N., 72°51.5′ W.; 41°8.4′ N., 72°51.5′ W.; 41°8.4′ N., 72°54.4′ W. The third column is corrected to read as follows: WLIS 41°001′ N., 73°29.8′ W.; 41°00.1′ N., 73°28.0′ W.; 40°58.9′ N., 73°28.1′ W.; 40°58.9′ N.,73°29.8′ W.

§ 228.15 [Corrected]

5. On page 53695, in amendment 2. for § 228.15 paragraph (b)(3)(i) is corrected to read as follows: (i) Location: Corner Coordinates (NAD1983) 41°9.5′ N., 72°54.4′ W.; 41°9.5′ N., 72°51.5′ W.; 41°8.4′ N., 72°51.5′ W.; 41°8.4′ N., 72°54.4′ W. Paragraph (b)(4)(i) is corrected to read as follows: (i) Location: Corner Coordinates (NAD1983) 41°00.1′ N., 73°29.8′ W.; 41°00.1′ N., 73°28.0′ W.; 40°58.9′ N., 73°28.1′ W.; 40°58.9′ N., 73°29.8′ W.

Dated: October 3, 2003.
Ira W. Leighton,
Acting Regional Administrator, EPA New England.

[FR Doc. 03-25636 Filed 10-8-03; 8:45 am]

BILLING CODE 6560-50-P